DEPARTMENT OF ENERGY

Federal Energy Regulatory Commission

Notice of Application Tendered for Filing With the Commission and Soliciting Additional Study Requests

April 26, 2000.

Take notice that the following hydroelectric application has been filed with the commission and is available for public inspection:

a. Type of application: Exemption, under 5 Megawatts or Less.

b. Project No.: 11838-000.

c. Date filed: April 10, 2000.

d. Applicant: Wynning Resources Roanoak Limited Partnership.

e. Name of project: Roanoak Hydroelectric Project.

f. Location: On the Howard's Fork of the San Miguel River near the Town of Telluride, Colorado, within the county of San Miguel, Colorado. The project will use some federal land administered by the U.S. Forest Service.

g. Filed pursuant to: Federal Power Act, 16 U.S.C., 791(a)-825(r).

h. Applicant contact: Mr. E. Lee Wynne, Wynning Resources, Inc., 4710 Kannah Creek Road, Whitewater, Colorado 81527, (970) 243-8284.

i. FERC contact: Timothy Looney (202) 219-2854 or E-mail address at timothy.looney@ferc.fed.us.

j. Deadline for filing additional study requests: 60 days from the issuance date of this notice.

All documents (original and eight copies) should be filed with: David P. Boergers, Secretary, Federal Energy Regulatory Commission, 888 First Street, NE, Washington, DC 20426.

k. Status of environmental analysis: This application is not ready for environmental analysis at this time.

l. The proposed project consists of a diversion weir, pipeline and power house containing a turbine generating unit with a total nameplate rating of 325-kilowatts, and appurtenant facilities. The project would have an annual generation of 2,000,000 kilowatthours.

m. A copy of the application is available for inspection and reproduction at the Commission's Public Reference Room, located at 888 First Street, NE, Room 2A, Washington, DC 20426, or by calling (202) 208-1371. This filing may be viewed on the web at http://www.ferc.fed.us/online/rims.htm (call 202-208-2222 for assistance). A copy is also available for inspection and reproduction at the address in item h above.

n. With this notice we are initiating consultation with the Colorado State Historic Preservation Officer as required by § 106, National Historic Preservation Act, and the regulations of the Advisory Council on Historic Preservation, 36 CFR 800.4.

o. Individuals desiring to be included on the Commission's mailing list should so indicate by writing to the Secretary of the Commission.

David P. Boergers,
Secretary.

[FR Doc. 00-10861 Filed 5-1-00; 8:45 am]

BILLING CODE 6717-01-M